DEPARTMENT OF HEALTH AND HUMAN SERVICES

Substance Abuse and Mental Health Services Administration

Center for Substance Abuse Treatment; Notice of Meeting

Pursuant to Public Law 92-463, notice is hereby given of a meeting of the Center for Substance Abuse Treatment (CSAT) National Advisory Council to be held in February 2000. A portion of the meeting will be open and include discussion of the Center's policy issues and current administrative, legislative, and program developments. The Council will hear feature presentations by SAMHSA Administrator Nelba Chavez, CSAT Director H. Westley Clark, and Alan Leshner, Director of the National Institute on Drug Abuse. There will also be presentations on the National Treatment Plan, collaborations between researchers and practice, updates on buprenorphine and methadone, costs of treatment, cultural competency activities and alcohol in tribal communities.

If anyone needs special accommodations for persons with disabilities, please notify the Contact listed below.

The meeting will also include the review, discussion, and evaluation of grant applications. Therefore, a portion of the meeting will be closed to the public as determined by the SAMHSA Administrator, in accordance with Title 5 U.S.C. 552b(c)(3), (4), and (6) and 5 U.S.C. App. 2, section 10(d).

A summary of the meeting and roster of council members may be obtained from: Mrs. Marjorie Cashion, CSAT, National Advisory Council, Rockwall II Building, Suite 619, 5600 Fishers Lane, Rockville, Maryland 20857, Telephone: (301) 443-8923.

Substantive program information may be obtained from the contact whose name and telephone number is listed below.

Committee Name: Center for Substance Abuse Treatment National Advisory Council.

Meeting Date: February 1, 2000—9:00 a.m.-5:00 p.m.; February 2, 2000—9:00 a.m.-2:00 p.m.

Place: Natcher Building, National Institutes of Health, Bethesda, Maryland 20892.

Type: Closed: February 1, 2000—9:00 a.m.-9:30 a.m., Open: February 1, 2000—9:30 a.m.-5:00 p.m. February 2, 2000—9:00 a.m.-2:00 p.m.

Contact: Marjorie M. Cashion, Executive Secretary, Telephone: (301) 443-5050, and FAX: (301) 480-6077.

Dated: January 11, 2000.
Sandi Stephens,
Acting Committee Management Officer, Substance Abuse and Mental Health Services Administration.

[FR Doc. 00-1034 Filed 1-14-00; 8:45 am]

BILLING CODE 4162-20-U